COMMISSION ON CIVIL RIGHTS

Sunshine Act Notice

AGENCY: U.S. Commission on Civil Rights.

DATE AND TIME: Friday, January 11, 2002, 8:30 a.m.

PLACE: Hilton Washington, 1919 Connecticut Avenue, NW., Monroe Room, Washington, DC 20425.

STATUS: Open to the public.

Agenda

I. Approval of Agenda

II. Approval of Minutes of December 7, 2001 Meeting

III. Announcements

IV. Staff Director's Report

V. State Advisory Committee Appointments of District of Columbia, Maryland, Virginia, and West Virginia

VI. Future Agenda Items

9:30 a.m. Document Production Hearing for the Education Accountability Project.

10:00 a.m. Environmental Justice Hearing.

Debra Carr,
Deputy General Counsel.

[FR Doc. 01-32258 Filed 12-28-01; 4:56 pm]

BILLING CODE 6335-00-M